FEDERAL COMMUNICATIONS COMMISSION

[GN Docket No. 18-122, DA 20-586; FRS 16829]

Wireless Telecommunications Bureau Seeks Comment on Optional Lump Sum Payments for 3.7-4.2 GHz Band Incumbent Earth Station Relocation Expenses

Correction

In notice document 2020-12493 appearing on pages 35086-35088 in the issue of Monday, June 8, 2020, make the following correction:

On page 35086, in the second column, in the DATES section, “June 16, 2020” should read “June 15, 2020”.

[FR Doc. C1-2020-12493 Filed 6-10-20; 8:45 am]

BILLING CODE 1300-01-D